INTERNATIONAL TRADE COMMISSION

Petitions for Duty Suspensions and Reductions: Notice That Comments Received on Previously Filed Petitions Are Available for Viewing on the Commission's Website

AGENCY: United States International Trade Commission.

ACTION: Notice that the Commission has published on its website comments received from the public on previously submitted petitions for duty suspensions and reductions.

SUMMARY: As required by the American Manufacturing Competitiveness Act of 2016, the Commission is publishing notice that comments received from the public on previously submitted petitions for duty suspensions and reductions are now available for public viewing on the Commission's website.

ADDRESSES: All Commission offices are located in the United States International Trade Commission Building, 500 E Street SW, Washington, DC. You may view the public file for this proceeding on the Commission's Miscellaneous Tariff Bill Petition System (MTBPS) website at https://mtbps.usitc.gov.

FOR FURTHER INFORMATION CONTACT: For general inquiries, contact Jennifer Rohrbach at mtbinfo@usitc.gov. For other inquiries, contact the Office of the Secretary, Docket Services, U.S. International Trade Commission, telephone (202) 205-3238. The media should contact Peg O'Laughlin, Public Affairs Officer (202) 205-1819 or margaret.olaughlin@usitc.gov). You may obtain general information concerning the Commission at https://www.usitc.gov.

SUPPLEMENTARY INFORMATION:

Background: The American Manufacturing Competitiveness Act of 2016 (the Act), 19 U.S.C. 1332 note, established a process for the submission and consideration of requests for temporary duty suspensions and reductions. Section 3(b)(1) of the Act requires the Commission to initiate the process by publishing a notice requesting members of the public who can demonstrate that they are likely beneficiaries of duty suspensions or reductions to submit petitions and Commission disclosure forms to the Commission. The Commission published this notice in the Federal Register on October 11, 2019 (84 FR 54924). Consistent with Section 3(b)(1) of the Act, the notice required that petitions be submitted by the close of business on December 10, 2019.

Under Section 3(b)(3)(A) of the Act, within 30 days of the expiration of the period for filing petitions, the Commission must publish on its website the petitions received that contain the information required by the Act. Under section 3(b)(3)(B) of the Act, the Commission must also publish a notice in the Federal Register requesting members of the public to submit comments to the Commission on the petitions published on the Commission's website. On January 10, 2020, the Commission both published the petitions received on its website and published the required notice in the Federal Register (85 FR 1327) requesting members of the public to submit comments on those petitions no later than the close of business on February 24, 2020.

Section 3(b)(3)(B)(ii) of the Act requires the Commission to publish a notice in the Federal Register directing members of the public to a publicly available Commission website to view the comments on the petitions by members of the public that the Commission received. This notice satisfies that requirement. Members of the public may view those comments on the Commission's website at https://mtbps.usitc.gov.

The Commission is now preparing the reports that it is required to submit, under section 3(b)(3)(C) and (E) of the Act, to the House Committee on Ways and Means and the Senate Committee on Finance (the Committees) on the petitions for duty suspensions and reductions submitted. The Commission will submit its preliminary report to the Committees in June 2020 and its final report in August 2020. In preparing these reports, the Commission will consider the petitions and comments submitted, the report that the U.S. Department of Commerce (in consultation with U.S. Customs and Border Protection and other relevant Federal agencies) submits to the Commission under section 3(c) of the Act, and any other information that it considers appropriate.

By order of the Commission.
Issued: March 17, 2020.
Lisa Barton,
Secretary to the Commission.

[FR Doc. 2020-05906 Filed 3-19-20; 8:45 am]

BILLING CODE 7020-02-P